DEPARTMENT OF ENERGY

Federal Energy Regulatory Commission

Combined Notice of Filings #3

Take notice that the Commission received the following exempt wholesale generator filings:

Docket Numbers: EG23-222-000.

Applicants: Orlando CoGen Limited, L.P.

Description: Orlando CoGen Limited, L.P. submits Notice of Self-Certification of Exempt Wholesale Generator Status.

Filed Date: 7/7/23.

Accession Number: 20230707-5016.

Comment Date: 5 p.m. ET 7/28/23.

Take notice that the Commission received the following electric rate filings:

Docket Numbers: ER10-1858-012; ER10-1862-040; ER10-1870-012; ER10-1889-012; ER10-1893-040; ER10-1895-012; ER10-1934-040; ER10-1938-041; ER10-1942-038; ER10-1944-012; ER10-2029-016; ER10-2036-015; ER10-2040-014; ER10-2041-014; ER10-2042-046; ER10-2043-014; ER10-2044-014; ER10-2051-014; ER10-2985-044; ER10-3049-045; ER10-3051-045; ER10-3260-014; ER11-4369-025; ER13-1401-012; ER14-2931-012; ER16-2218-026; ER17-696-026; ER18-1321-007; ER20-1939-005; ER23-944-004.

Applicants: Calpine Community Energy, LLC, Calpine Northeast Development, LLC, Calpine Mid-Merit II, LLC, Calpine Energy Solutions, LLC, North American Power Business, LLC, Calpine Fore River Energy Center, LLC, Westbrook Energy Center, LLC, North American Power and Gas, LLC, Granite Ridge Energy, LLC, Champion Energy, LLC, Champion Energy Services, LLC, Champion Energy Marketing LLC, Calpine Bethlehem, LLC, Zion Energy LLC, Calpine Mid-Atlantic Generation, LLC, Calpine Energy Services, L.P., Calpine Mid Merit, LLC, Calpine New Jersey Generation, LLC, Calpine Vineland Solar, LLC, Calpine Mid-Atlantic Marketing, LLC, Bethpage Energy Center 3, LLC, Calpine Construction Finance Co., L.P., Calpine Power America—CA, LLC, CES Marketing IX, LLC, KIAC Partners, CES Marketing X, LLC, CPN Bethpage 3rd Turbine, Inc., Nissequogue Cogen Partners, Power Contract Financing, L.L.C., TBG Cogen Partners.

Description: Triennial Market Power Analysis for Northeast Region of TBG Cogen Partners, et al.

Filed Date: 6/30/23.

Accession Number: 20230630-5459.

Comment Date: 5 p.m. ET 8/29/23.

Docket Numbers: ER10-1987-005.

Applicants: Ontario Power Generation Energy Trading, Inc.

Description: Triennial Market Power Analysis for Southeast Region of Ontario Power Generation Energy Trading, Inc.

Filed Date: 6/30/23.

Accession Number: 20230630-5469.

Comment Date: 5 p.m. ET 8/29/23.

Docket Numbers: ER10-2201-005; ER13-291-004; ER14-1468-015; ER15-1471-014; ER15-1672-013; ER16-2010-008.

Applicants: Hancock Wind, LLC, Evergreen Wind Power II, LLC, Blue Sky West, LLC, KMC Thermo, LLC, EnergyMark, LLC, Marina Energy, LLC.

Description: Triennial Market Power Analysis for Northeast Region of Marina Energy, LLC, et al.

Filed Date: 6/30/23.

Accession Number: 20230630-5477.

Comment Date: 5 p.m. ET 8/29/23.

Docket Numbers: ER10-2398-014; ER10-2399-014; ER10-2406-015; ER10-2408-009; ER10-2409-014; ER10-2410-014; ER10-2411-015; ER10-2412-015; ER11-2935-016; ER13-1816-020; ER14-1933-014; ER16-1152-007; ER16-1724-012; ER17-1314-006; ER18-1189-009; ER19-1282-007; ER20-2714-005; ER22-2115-002; ER22-2116-002; ER23-1585-001.

Applicants: Riverstart Solar Park III LLC, Blue Harvest Solar Park LLC, Timber Road Solar Park LLC, Headwaters Wind Farm II LLC, Paulding Wind Farm IV LLC, Meadow Lake Wind Farm VI LLC, Arkwright Summit Wind Farm LLC, Paulding Wind Farm III LLC, Jericho Rise Wind Farm LLC, Headwaters Wind Farm LLC, Sustaining Power Solutions LLC, Paulding Wind Farm II LLC, Meadow Lake Wind Farm IV LLC, Meadow Lake Wind Farm III LLC, Meadow Lake Wind Farm II LLC, Meadow Lake Wind Farm LLC, Marble River, LLC, High Trail Wind Farm, LLC, Blackstone Wind Farm II LLC, Blackstone Wind Farm, LLC.

Description: Triennial Market Power Analysis for Northeast Region of Blackstone Wind Farm, LLC, et al.

Filed Date: 6/30/23.

Accession Number: 20230630-5489.

Comment Date: 5 p.m. ET 8/29/23.

Docket Numbers: ER10-2435-022; ER10-2440-014; ER12-2510-012; ER12-2512-012; ER15-2013-015; ER15-2014-009; ER15-2022-008; ER15-2026-008; ER18-2252-004; ER19-481-005.

Applicants: LMBE Project Company LLC, MC Project Company LLC, Susquehanna Nuclear, LLC, Montour, LLC, Brunner Island, LLC, Talen Energy Marketing, LLC, H.A. Wagner LLC, Brandon Shores LLC, Dartmouth Power Associates Limited Partnership, Camden Plant Holdings, L.L.C.

Description: Triennial Market Power Analysis for Northeast Region of Talen Energy Marketing, LLC, et al.

Filed Date: 6/30/23.

Accession Number: 20230630-5490.

Comment Date: 5 p.m. ET 8/29/23.

Docket Numbers: ER10-2984-063.

Applicants: Merrill Lynch Commodities, Inc.

Description: Triennial Market Power Analysis for Northeast Region of Merrill Lynch Commodities, Inc.

Filed Date: 6/30/23.

Accession Number: 20230630-5484.

Comment Date: 5 p.m. ET 8/29/23.

Docket Numbers: ER11-2335-019; ER11-3859-024; ER11-4634-011; ER14-1699-014; ER15-748-008; ER15-1456-011; ER15-1457-011; ER17-436-010; ER18-920-013; ER19-464-004; ER19-967-004; ER19-968-005.

Applicants: Manchester Street, L.L.C., Fairless Energy, L.L.C., Vermillion Power, L.L.C., Marco DM Holdings, L.L.C., Marcus Hook Energy, L.P., Syracuse, L.L.C., Beaver Falls, L.L.C., Garrison Energy Center LLC, Milford Power, LLC, Hazleton Generation LLC, Dighton Power, LLC, Dynegy Services Plum Point, LLC.

Description: Triennial Market Power Analysis for Northeast Region of Plum Point Services Company, LLC, et al.

Filed Date: 6/30/23.

Accession Number: 20230630-5481.

Comment Date: 5 p.m. ET 8/29/23.

Docket Numbers: ER17-1037-004; ER17-1603-003; ER17-2245-003; ER19-1741-002.

Applicants: Dominion Energy South Carolina, Inc., Moffett Solar 1, LLC, Dominion Energy Generation Marketing, Inc., Innovative Solar 37, LLC.

Description: Triennial Market Power Analysis for Southeast Region of Innovative Solar 37, LLC, et al.

Filed Date: 6/30/23.

Accession Number: 20230630-5478.

Comment Date: 5 p.m. ET 8/29/23.

Docket Numbers: ER17-1315-012; ER17-2087-010; ER20-2746-006.

Applicants: Riverstart Solar Park LLC, Hog Creek Wind Project, LLC, Meadow Lake Wind Farm V LLC.

Description: Triennial Market Power Analysis for Northeast Region of Meadow Lake Wind Farm V LLC, et al.

Filed Date: 6/30/23.

Accession Number: 20230630-5486.

Comment Date: 5 p.m. ET 8/29/23.

Docket Numbers: ER17-2558-002; ER18-974-003.

Applicants: Carolina Power Partners, LLC, Ohio Power Partners, LLC.

Description: Triennial Market Power Analysis for Northeast Region of Ohio Power Partners, LLC, et al.

Filed Date: 6/30/23.

Accession Number: 20230630-5492.

Comment Date: 5 p.m. ET 8/29/23.

Docket Numbers: ER18-552-005.

Applicants: Clean Energy Future-Lordstown, LLC.

Description: Triennial Market Power Analysis for Northeast Region of Clean Energy Future-Lordstown, LLC.

Filed Date: 6/30/23.

Accession Number: 20230630-5485.

Comment Date: 5 p.m. ET 8/29/23.

Docket Numbers: ER21-1225-005; ER22-867-002.

Applicants: Long Ridge Retail Electric Supplier LLC, Long Ridge Energy Generation LLC.

Description: Triennial Market Power Analysis for Northeast Region of Long Ridge Energy Generation LLC, et al.

Filed Date: 6/30/23.

Accession Number: 20230630-5475.

Comment Date: 5 p.m. ET 8/29/23.

Docket Numbers: ER23-1598-000; ER23-1598-001.

Applicants: Versant Power.

Description: Versant Power submits Response to FERC's June 5, 2023, Deficiency Letter.

Filed Date: 7/5/23.

Accession Number: 20230705-5063.

Comment Date: 5 p.m. ET 7/26/23.

Docket Numbers: ER23-2351-000.

Applicants: Idaho Power Company.

Description: § 205(d) Rate Filing: Legacy Agreement Clean Up to be effective 12/18/2012.

Filed Date: 7/6/23.

Accession Number: 20230706-5106.

Comment Date: 5 p.m. ET 7/27/23.

Docket Numbers: ER23-2352-000.

Applicants: Interstate Power and Light Company.

Description: § 205(d) Rate Filing: IPL-Chickasaw Wind RLBAA Filing to be effective 9/6/2023.

Filed Date: 7/7/23.

Accession Number: 20230707-5027.

Comment Date: 5 p.m. ET 7/28/23.

Docket Numbers: ER23-2353-000.

Applicants: PJM Interconnection, L.L.C.

Description: § 205(d) Rate Filing: Interim ISA and CSA, SA Nos. 5885 & 6969; Queue No. AF1-123/AF1-124/AF1-125 to be effective 6/7/2023.

Filed Date: 7/7/23.

Accession Number: 20230707-5028.

Comment Date: 5 p.m. ET 7/28/23.

Docket Numbers: ER23-2354-000.

Applicants: Interstate Power and Light Company.

Description: § 205(d) Rate Filing: Prescott Wind LBA to be effective 9/6/2023.

Filed Date: 7/7/23.

Accession Number: 20230707-5029.

Comment Date: 5 p.m. ET 7/28/23.

Docket Numbers: ER23-2355-000.

Applicants: PJM Interconnection, L.L.C.

Description: § 205(d) Rate Filing: Amendment to ISA, SA No. 5833; Queue No. AC2-100/AD1-131 (amend) to be effective 9/6/2023.

Filed Date: 7/7/23.

Accession Number: 20230707-5036.

Comment Date: 5 p.m. ET 7/28/23.

Docket Numbers: ER23-2356-000.

Applicants: FPL Energy Wyman IV LLC.

Description: Petition of FPL Energy Wyman IV LLC for Waiver of the Transmission, Markets, and Services Tariff of ISO New England, LLC.

Filed Date: 7/6/23.

Accession Number: 20230706-5146.

Comment Date: 5 p.m. ET 7/27/23.

Docket Numbers: ER23-2357-000.

Applicants: PJM Interconnection, L.L.C.

Description: Tariff Amendment: Notice of Cancellation of ISA, SA No. 6715; Queue No. AE2-111 to be effective 1/18/2023.

Filed Date: 7/7/23.

Accession Number: 20230707-5045.

Comment Date: 5 p.m. ET 7/28/23.

Docket Numbers: ER23-2358-000.

Applicants: Wildflower Solar, LLC.

Description: § 205(d) Rate Filing: Shared Facilities and Co-Tenancy Agreement to be effective 9/6/2023.

Filed Date: 7/7/23.

Accession Number: 20230707-5067.

Comment Date: 5 p.m. ET 7/28/23.

Docket Numbers: ER23-2359-000.

Applicants: PJM Interconnection, L.L.C.

Description: § 205(d) Rate Filing: Original ISA, SA No. 6967 and ICSA, SA No. 6968; Queue Nos. AD2-100/AD2-131 to be effective 9/6/2023.

Filed Date: 7/7/23.

Accession Number: 20230707-5071.

Comment Date: 5 p.m. ET 7/28/23.

Docket Numbers: ER23-2360-000.

Applicants: Alabama Power Company, Georgia Power Company, Mississippi Power Company.

Description: § 205(d) Rate Filing: Alabama Power Company submits tariff filing per 35.13(a)(2)(iii): PowerSouth NITSA Amendment (Add Holly Hills DP) to be effective 6/7/2023.

Filed Date: 7/7/23.

Accession Number: 20230707-5074.

Comment Date: 5 p.m. ET 7/28/23.

Docket Numbers: ER23-2361-000.

Applicants: Public Service Company of Colorado.

Description: § 205(d) Rate Filing: 2023-07-07—PSCoM—NITS—463—Amnd 3 to be effective 8/1/2023.

Filed Date: 7/7/23.

Accession Number: 20230707-5121.

Comment Date: 5 p.m. ET 7/28/23.

Take notice that the Commission received the following electric securities filings:

Docket Numbers: ES23-55-000

Applicants: SR DeSoto III, LLC

Description: Application Under Section 204 of the Federal Power Act for Authorization to Issue Securities of SR DeSoto III, LLC.

Filed Date: 7/6/23

Accession Number: 20230706-5144

Comment Date: 5 p.m. ET 7/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 7, 2023.
Debbie-Anne A. Reese,
Deputy Secretary.

[FR Doc. 2023-14866 Filed 7-12-23; 8:45 am]

BILLING CODE 6717-01-P